DEPARTMENT OF COMMERCE

International Trade Administration

Notice of Recruitment for the Clean EDGE Asia Business Development Mission to Indonesia and Vietnam

AGENCY: International Trade Administration, U.S. Department of Commerce.

ACTION: Notice.

SUMMARY: The International Trade Administration (ITA), United States Department of Commerce, is announcing recruitment for the Clean EDGE Asia Business Development Mission to Indonesia and Vietnam (previously announced and published in the Federal Register as the Asia EDGE Business Development Mission to Indonesia and Vietnam). The Mission will be hosted from June 6-10, 2022, with dates, fee structure, and scope as outlined below. The Mission includes stops to Indonesia and Vietnam, with an optional stop to the Philippines.

SUPPLEMENTARY INFORMATION: Notice of dates, pricing, and scope for the Clean EDGE Asia Business Development Mission to Indonesia and Vietnam.

Background

The International Trade Administration (ITA), United States Department of Commerce, is announcing dates, pricing, and scope for the executive-led Clean EDGE Asia Business Development Mission to Indonesia and Vietnam. The Mission will take place from June 6-10, 2022 and includes stops to Indonesia (Jakarta) and Vietnam (Ho Chi Minh City and Hanoi), with an optional program in the Philippines (Manila) from June 13-14, 2022. The Mission was previously announced and published in the Federal Register as the Asia EDGE Business Development Mission (84 FR 48590) and was initially scheduled for March 16-24, 2020. The Mission was postponed multiple times due to COVID-19. The Mission is now being organized under the Biden-Harris Administration's new Indo-Pacific clean energy initiative, Clean EDGE Asia, and is focused on promoting U.S. products and services exports that strengthen energy security, enhance energy access, promote open and efficient energy markets, and advance clean energy and climate goals in Southeast Asia.

The Mission will support the U.S. vision to grow sustainable, secure, and clean energy markets throughout Asia by promoting U.S. exports, mobilizing private sector investment, removing trade barriers, and strengthening standards and procurement practices. Drawing on expertise and resources from across the U.S. government, this trade mission will advance global efforts to realize net-zero emissions by midcentury, while supporting the strategic objectives of strengthening energy security, expanding energy access, and promoting energy markets that are open, efficient, rule-based, and transparent. The Mission will highlight the range of energy sectors in which U.S. companies are competitive, including those that are at the forefront of supporting efforts to reduce global greenhouse gas emissions and decarbonize the energy sector. The Mission will build on several existing energy programs and events, including those organized under the U.S.-Indonesia and U.S.-Vietnam Energy Industry Networks.

Mission participants will have the opportunity to meet with key Southeast Asian decision makers to discuss how to foster policies, regulations, and financial investment that support the development of sustainable, secure, and profitable energy markets. Mission participants will network with regional government officials, be introduced to prospective business partners, and facilitate discussions on best practices in their areas of technical expertise. Participants will gain market insights, make industry contacts, solidify business strategies, discuss enabling policies, and advance specific projects, with the primary goal of increasing U.S. exports of products and services to the Indo-Pacific. The Mission will include customized one-on-one business appointments, meetings with state and local government officials, and networking events. Participation will be open to energy sector stakeholders meeting the prerequisites for participation outlined in the Conditions of Participation.

Best Prospects

The below list, while not exhaustive, identifies key products, services, and technologies that would be an appropriate fit for the trade mission. Companies across all energy sectors are welcome to apply. ITA is committed to assembling a trade mission delegation that is representative of a broad range of energy sectors, with an emphasis on those sectors that advance clean and sustainable energy goals.

• Renewable Power Generation (Solar, Wind, Geothermal, etc.)

• Civil Nuclear Power Generation

• Carbon Abatement Technologies for Thermal Power Generation

• Distributed Energy Resources

• Microgrids

• Transmission and Distribution (T&D) Equipment

• Smart Grid Information Communications Technologies and Services

• Distribution Automation/Substation Automation

• Energy Storage Technologies

• Supervisory Control and DataAcquisition (SCADA) Systems

• Energy Cybersecurity Software and Services

• Engineering and Design Services

• Project Management Services/Consulting Services

• Predictive Maintenance/Corrosion Control/Condition Monitoring Systems

• Energy Management Systems

• Biofuels

• Electric Vehicle Charging Infrastructure

Other Products and Services

Applications from companies exporting products or services within the scope of the Mission, but not specifically identified, will be considered and evaluated by the U.S. Department of Commerce. Companies whose products or services do not fit the scope of the Mission may contact their local U.S. Export Assistance Center (USEAC) to learn about other business development missions and services that may provide more targeted export opportunities. Companies may call 1-800-872-8723 or visit https://help.export.gov/ to obtain such information. This information also may be found on the website: https://www.export.gov.

Proposed Timetable *

June 4-14, 2022

Saturday/Sunday, June 4/5, 2022 | • Travel to JAKARTA.
Monday, June 6, 2022 | • Official Trade Mission Program Commences. • JAKARTA (Full Day Sessions).
Tuesday, June 7, 2022 | • JAKARTA (Morning Sessions). • Travel to HO CHI MINH CITY.
Wednesday, June 8, 2022 | • HO CHI MINH CITY (Full Day Sessions).
Thursday, June 9, 2022 | • Travel to HANOI. • HANOI (Evening Reception).
Friday, June 10, 2022 | • HANOI (Full Day Sessions).
Saturday/Sunday, June 11/12, 2022 | • Optional Spin Off Program Commences. • Travel to MANILA.
Monday, June 13, 2022 | • MANILA (Full Day Sessions).
Tuesday, June 14, 2022 | • MANILA (Full Day Sessions). • Trade Mission Concludes.
* Note: The final schedule of meetings, events, and site visits will depend on the availability of host government and business officials, specific goals of mission participants, and flight availability and ground transportation options.

Participation Requirements

Applicants must sign and submit a completed trade mission application form and satisfy all the conditions of participation to be eligible for consideration. Applicants are also asked to submit a supplemental statement to ITA outlining how their products and services advance clean energy and climate goals in Southeast Asia and elaborate on any current sustainable energy projects that they are supporting in the region. ITA plans to select a minimum of 10 and a maximum of 20 firms and/or trade associations to participate in the Mission. Firms that were previously selected to the Asia EDGE Business Development Mission are encouraged to review the new scope of the trade mission and re-apply if interested.

Fees and Expenses

After a firm or trade association has been selected to participate on the Mission, a payment to the U.S. Department of Commerce in the form of a participation fee is required. The participation fee for this Business Development Mission will be $4,700 for small or medium-sized enterprises (SME) ¹; and $6,700 for large firms or trade associations. The fee for each additional firm representative (large firm, SME or trade association) is $1,000. The fee for the spin off to Manila will be $1,300 for SMEs; and $2,000 for large firms or trade associations.

Participants selected for the Mission will be expected to pay for the cost of all personal expenses, including but not limited to, international travel, lodging, meals, transportation, communication, and incidentals, unless otherwise noted. In the event that the Mission is cancelled, no personal expenses paid in anticipation of the trade mission will be reimbursed. However, participation fees for a cancelled trade mission will be reimbursed to the extent they have not already been expended in anticipation of the Mission. Delegation members will be able to take advantage of U.S. Embassy rates for hotel room package, which typically includes breakfast and airport-hotel transfers. Local ground transportation for meetings and events will be provided for the group.

Participants must obtain individual country visas to enter Indonesia, Vietnam, and the Philippines (if electing to join the optional spin-off activities in Manila). Government fees and processing expenses to obtain visas are not included in the mission costs. The U.S. Department of Commerce will provide instructions to each participant on the procedures to obtain the required visas.

Trade mission members participate in this Business Development Mission and undertake mission-related travel at their own risk. The nature of the security situation in a given foreign market at a given time cannot be guaranteed. The U.S. Government does not make any representations or guarantees as to the safety or security of participants. The U.S. Department of State issues U.S. Government international travel alerts and warnings for U.S. citizens, available at https://travel.state.gov/content/passports/en/alertswarnings.html. Any question regarding insurance coverage must be resolved by the participant and his/her insurers of choice.

Definition of Small and Medium Sized Enterprise

For purposes of assessing participation fees, an applicant is a small or medium-sized enterprise (SME) if it qualifies under the Small Business Administration's (SBA) size standards (https://www.sba.gov/document/support-table-size-standards), which vary by North American Industry Classification System (NAICS) Code. The SBA Size Standards Tool [https://www.sba.gov/size-standards/] can help you determine the qualifications that apply to your company.

Important Note About the COVID-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previous selected applicants with the option to opt-in to the new virtual program.

Conditions of Participation

An applicant must submit a completed and signed mission application and supplemental application materials, including adequate information on the company's products and/or services, primary market objectives, and goals for participation. Applicants must also submit a supplemental statement to ITA outlining how their products and services advance clean energy and climate goals in Southeast Asia and describing any current sustainable energy projects they are supporting in the region. If an incomplete application is received, the U.S. Department of Commerce may reject the application, request additional information, or take the lack of information into account when evaluating the applications.

Each applicant must provide certification that its products and/or services are being manufactured or produced in the United States or, if manufactured/produced outside of the United States, its products and/or services are marketed under the name of a U.S. firm and have U.S. content representing at least 51 percent of the value of the finished product or service. In the case of a trade association, the applicant must certify that, for each company to be represented by the trade association on the mission, the products and services that the represented company seeks to export are either produced in the United States or, if not, marketed under the name of a U.S. firm and have at least 51 percent U.S. content. Applicants are encouraged to reach out to ITA staff if they have any questions.

In addition, each applicant must:

• Certify that the export of the products and services that it wishes to market through the mission would be in compliance with U.S. export controls and regulations;

• Certify that it has identified any matter pending before any bureau or office in the U.S. Department of Commerce;

• Certify that it has identified any pending litigation (including any administrative proceedings) to which it is a party that involves the U.S. Department of Commerce;

• Sign and submit an agreement that it and its affiliates (1) have not and will not engage in the bribery of foreign officials in connection with a company's/participant's involvement in this mission, and (2) maintain and enforce a policy that prohibits the bribery of foreign officials; and

• Certify that it meets the minimum requirements as stated in this announcement.

In the case of a trade association/organization, the applicant must certify that each firm or service provider to be represented by the association/organization can make the above certifications.

The following criteria will be evaluated in selecting participants:

• Suitability of the applicant's (or in the case of a trade association/organization, represented firm or service provider's) products or services to these markets;

• Firm's or service provider's (or in the case of a trade association/organization, represented firms') potential for business in the markets visited and broader Indo-Pacific region, including likelihood of U.S. exports resulting from or otherwise advanced by the mission.

• Consistency of the firm's or service provider's (or in the case of a trade association/organization, represented firms') goals and objectives with the stated scope of the mission.

Balance of company size and location may also be considered during the overall review process. Referrals from a political party or partisan political group or any information, including on the application, containing references to political contributions or other partisan political activities will be excluded from the application and will not be considered during the selection process. The sender will be notified of these exclusions.

Timeline for Recruitment and Applications

Mission recruitment will be conducted in an open and public manner, including publication in the Federal Register, posting on the U.S. Department of Commerce trade mission calendar (https://export.gov/trademissions) and other internet websites, press releases to general and trade media, direct mail, notices by industry trade associations and other multiplier groups, and publicity at industry meetings, symposia, conferences, and trade shows. Recruitment for the Mission will begin immediately.

The Department of Commerce will evaluate applications and inform applicants of selection decisions following the recruitment period. Applications received after April 1, 2022, will be considered only if space and scheduling constraints permit.

Contacts

Victoria Yue, Senior International Trade Specialist, Office of Energy and Environmental Industries, U.S. Department of Commerce, Phone: 1-202-482-3492, Email: victoria.yue@trade.gov

Daniel Pint, Commercial Officer, U.S. Consulate General Ho Chi Minh City (Vietnam), U.S. Department of Commerce, Phone: 84-28-3520-4651, Email: daniel.pint@trade.gov

Paul Taylor, Senior Commercial Officer (Acting), U.S. Embassy Jakarta (Indonesia), U.S. Department of Commerce, Phone: 62-815-1080-0475, Email: paul.taylor@trade.gov

Darrel Ching, Commercial Officer, U.S. Embassy Manila, Philippines, U.S. Department of Commerce, Phone: 63-2-5301-6366, Email: darrel.ching@trade.gov

Barton Meroney,
Executive Director for Manufacturing, Office of Manufacturing.

[FR Doc. 2022-03502 Filed 2-17-22; 8:45 am]

BILLING CODE 3510-DR-P